FEDERAL RESERVE SYSTEM

Consumer Advisory Council

ACTION: Notice of Meeting of Consumer Advisory Council

The Consumer Advisory Council will meet on Thursday, March 17, 2005. The meeting, which will be open to public observation, will take place at the Federal Reserve Board's offices in Washington, D.C., in Dining Room E on the Terrace level of the Martin Building. Anyone planning to attend the meeting should, for security purposes, register no later than Tuesday, March 15, by completing the form found on-line at:

https://www.federalreserve.gov/secure/forms/cacregistration.cfm

Additionally, attendees must present photo identification to enter the building.

The meeting will begin at 9:00 a.m. and is expected to conclude at 1:00 p.m. The Martin Building is located on C Street, NW, between 20th and 21st Streets.

The Council's function is to advise the Board on the exercise of the Board's responsibilities under various consumer financial services laws and on other matters on which the Board seeks its advice. Time permitting, the Council will discuss the following topics:

Home Mortgage Disclosure Act Data: Discussion of guidance for lenders and consumers about the release of the new data.

Truth in Lending Act: Discussion of the Advance Notice of Proposed Rulemaking to revise Regulation Z, which implements the Truth in Lending Act.

Community Reinvestment Act (CRA) and Community Development: Discussion of CRA evaluations of intermediate-size community banks and of encouraging community development in rural areas.

Electronic Fund Transfer Act: Discussion of specific issues on proposed changes to Regulation E, which implements the Electronic Fund Transfer Act.

Committee Reports: Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, D.C. 20551. Information about this meeting may be obtained from Ms. Bistay, 202-452-6470.

Board of Governors of the Federal Reserve System, February 22, 2005.

Robert deV. Frierson,
Deputy Secretary of the Board.

[FR Doc. 05-3732 Filed 2-25-05; 8:45 am]

BILLING CODE 6210-01-S